INTERNATIONAL TRADE COMMISSION

[Investigation No. 337-TA-1389]

Certain Computing Devices Utilizing Indexed Search Systems and Components Thereof; Notice of Commission Determination To Review in Part and, on Review, Affirm a Final Initial Determination Finding No Violation of Section 337; Termination of Investigation

AGENCY: U.S. International Trade Commission.

ACTION: Notice.

SUMMARY: The Commission has determined to review in part and, on review, affirm a final initial determination (“ID”) issued by the presiding administrative law judge (“ALJ”) in the above-captioned investigation finding no violation of section 337. This investigation is hereby terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 29, 2024, the Commission instituted this investigation under section 337 of the Tariff Act of 1930, as amended, 19 U.S.C. 1337 (“section 337”), based on a complaint filed by X1 Discovery, Inc. of Pasadena, California (“X1”). See 89 FR 5574-75 (Jan. 29, 2024). The complaint, as amended, alleges violations of section 337 based upon the importation into the United States, the sale for importation, and the sale within the United States after importation of certain computing devices utilizing indexed search systems and components thereof by reason of infringement of certain claims of U.S. Patent Nos. 8,498,977 (“the '977 patent”) and 8,856,093 (“the '093 patent”). Id. The complaint also alleges that a domestic industry (“DI”) exists. Id. The notice of investigation names seven respondents: (1) ASUSTeK Computer Inc. of Taipei, Taiwan; (2) ASUS Computer International of Fremont, California; (3) Acer Inc. of Taipei, Taiwan; (4) Acer America Corporation of San Jose, California; (5) Dell Technologies Inc. of Round Rock, Texas; (6) Dell Products L.P. of Round Rock, Texas (collectively, the “Remaining Respondents”); and (7) Dell (Chengdu) Company Limited of Sichuan, China (“Dell (Chengdu)”). Id. The Office of Unfair Import Investigations is not participating in this investigation.

On May 22, 2024, the Commission terminated respondent Dell (Chengdu) from the investigation based on partial withdrawal of the complaint. Order No. 8 (May 6, 2024), unreviewed by Comm'n Notice (May 22, 2024). As a result, only the six Remaining Respondents remain in the investigation.

On September 23, 2024, the Commission terminated the investigation as to the following asserted claims based on partial withdrawal of the complaint: (i) claims 5, 8-11, 13, 15-16, and 20 of the '977 patent and (ii) claims 1-7, 11-12, 14-17, and 19 of the '093 patent. Order No. 15 (Aug. 27, 2024), unreviewed by Comm'n Notice (Sept. 23, 2024).

On October 25, 2024, the Commission granted summary determination of non-infringement of the asserted claims of the '977 patent and, thus, no violation of section 337 as to the '977 patent. Order No. 18 (Sept. 3, 2024), aff'd with modified and supplemental reasoning by Comm'n Notice (Oct. 25, 2024); see Comm'n Opinion (Oct. 25, 2024).

On February 26, 2025, the ALJ issued the final ID, which finds no violation of section 337 as to the remaining asserted claims (claims 13 and 18) of the '093 patent. Specifically, the ID finds that: (i) X1 failed to show that claims 13 and 18 have been infringed; (ii) the Remaining Respondents showed that claims 13 and 18 are invalid; (iii) X1 failed to satisfy the technical prong of the DI requirement as to the '093 patent; and (iv) X1 has satisfied the economic prong of the DI requirement as to the '093 patent. The ID also includes the ALJ's recommended determination (“RD”) on remedy and bonding. The RD recommends that, should the Commission determine that a violation of section 337 has occurred, the Commission should: (i) issue a limited exclusion order against the Remaining Respondents' infringing products; (ii) issue CDOs against each of the Remaining Respondents; and (iii) impose no bond (zero percent bond) for importations of infringing products during the period of Presidential review. No petitions for review of the ID were filed.

The Commission, having reviewed the record of the investigation, including the parties' submissions to the ALJ and final ID, has determined to review the ID in part. Specifically, the Commission has determined to review the ID's finding that X1 has satisfied the economic prong of the DI requirement as to the '093 patent. On review, the Commission has determined to take no position on this issue. See 19 CFR 210.45(c); see also Beloit Corp. v. Valmet Oy, 742 F.2d 1421, 1423 (Fed. Cir. 1984). The Commission has determined not to review the remaining findings in the ID. Accordingly, the Commission has determined to affirm the ID's finding that X1 has not shown a violation of section 337 by the Remaining Respondents as to claims 13 and 18 of the '093 patent.

This investigation is hereby terminated.

The Commission vote for this determination took place on April 28, 2025.

The authority for the Commission's determination is contained in section 337 of the Tariff Act of 1930, as amended (19 U.S.C. 1337), and in part 210 of the Commission's Rules of Practice and Procedure (19 CFR part 210).

By order of the Commission.
Issued: April 28, 2025.
Lisa Barton,
Secretary to the Commission.

[FR Doc. 2025-07638 Filed 5-1-25; 8:45 am]

BILLING CODE 7020-02-P